DEPARTMENT OF LABOR

Office of the Secretary

Submission for OMB Review; Comment Request

August 30, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202) 219-8904 or email Howze-Marlene@dol.gov).

Comments should be sent to Office of Information and Regulatory Affairs, Attn: OMB Desk Officer for PWBA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Pension and Welfare Benefits Administration (PWBA).

Title: Notice to Participants and Beneficiaries and the Federal Government of Electing One Percent Increased Cost Exemption.

OMB Number: 1210-0105.

Affected Public: Business or other for-profit; Individuals or households; and Not-for-profit institutions.

Frequency: On occasion.

Number of Respondents: 10.

Number of Annual Responses: 10,000.

Estimated Time Per Response: 2 minutes.

Total Burden Hours: 333.

Total Annualized Capital/Startup Costs: $0.

Total Annual Costs (operating/maintaining systems or purchasing services): $5,000.

Description: Plans may be exempted from Mental Health Parity Act of 1996 requirements of parity between dollar limits on medical/surgical and mental health benefits if parity would result in an increase in cost of at least one percent and participants and beneficiaries and the federal government are notified. This ICR covers notice to participants and beneficiaries and to the federal government when a plan elects the increased cost exemption.

Type of Review: Extension of a currently approved collection.

Agency: Pension and Welfare Benefits Administration (PWBA).

Title: Calculation and Disclosure of Documentation of Eligibility for Exemption.

OMB Number: 1210-0106.

Affected Public: Business or other for-profit; Individuals or households; and Not-for-profit institutions.

Frequency: On occasion.

Number of Respondents: 10.

Number of Annual Responses: 200.

Estimated Time Per Response: 3 minutes.

Total Burden Hours: 10.

Total Annualized Capital/Startup Costs: $0.

Total Annual Costs (operating/maintaining systems or purchasing services): $100.

Description: The Mental Health Parity Act of 1996 requires parity between the dollar limits imposed on mental health benefits and those imposed on medical/surgical benefits offered by group health plans and issuers. Upon receipt of notice that a plan claims exemption from these requirements, participants and beneficiaries may request a summary of the information on which the exemptions was based.

The information collection request (ICR) found in the interim rules at 29 CFR 2590.712(f)(4) requires the plan to maintain group health plan claims and administrative expense records in such a way that they can be used to demonstrate the applicability of the one percent cost increase exemption as defined in the interim rules, and that a summary of that information can be provided at the request of participants and beneficiaries, or their representative at no charge.

This ICR covers the calculation and disclosure of information on which the exemption was based.

Type of Review: Extension of a currently approved collection.

Agency: Pension and Welfare Benefits Administration (PWBA).

Title: Form 5500 Annual Information Return/Report of Employee Benefit Plan.

OMB Number: 1210-0110.

Affected Public: Business or other for-profit; Individuals or households; Not-for-profit institutions; and Farms.

Frequency: Annually; On Occasion.

Number of Respondents: 863,682.

Number of Annual Responses: 863,682.

Estimated Time Per Response: ¹
| Pension plans: Large | Pension plans: Small | Welfare plans: Large | Welfare plans: Small
Form 500 | 1 hr., 44 min | 1 hr., 6 min | 1 hr., 38 min | 1 hr., 5 min.
Schedule A | 1 hr., 41 min | 53 min | 8 hr., 10 min | 2 hr., 11 min.
Schedule B | 6 hr., 38 min | 31 min. |
Schedule C | 1 hr., 17 min |  | 52 min
Schedule D | 10 hr | 10 hr. |
Schedule E | 3 hr., 18 min | 3 hr., 18 min. |
Schedule F |  |  | 45 min | 26 min.
Schedule G | 11 hr., 58 min |  | 6 hr., 28 min
Schedule H | 7 hr., 56 min |  | 3 hr., 22 min
Schedule I |  | 1 hr., 28 min |  | 1 hr., 28 min.
Schedule P | 13 min | 2 min. |
Schedule R | 1 hr | 30 min. |
Schedule SSA | 6 hr., 10 min | 1 hr., 42 min. |
Schedule T | 4 hr., 40 min | 37 min. |
¹ The time needed to complete and file the forms listed above reflects the combined requirements of the Internal Revenue Service, Department of Labor, Pension Benefit Guaranty Corporation, and the Social Security Administration. These times will vary depending on individual circumstances.

Total Burden Hours: 1,847,163.

Total Annualized Capital/Startup Costs: $0.

Total Annual Costs (operating/maintaining systems or purchasing services): $546,789,000.

Description: Part 1 of Title I and Title IV of the Employee Retirement Security Act of 1974, as amended, and the Internal Revenue Code, require administrators of pension and welfare benefit plans (collectively referred to as employee benefit plans) to file return/reports annually concerning, among other things, the financial condition and operation of plans. These annual reporting requirements are satisfied generally by filing the Form 5500.

Darrin A. King,
Acting Departmental Clearance Officer.

[FR Doc. 01-22528 Filed 9-6-01; 8:45 am]

BILLING CODE 4510-29-P